ENVIRONMENTAL PROTECTION AGENCY

[CERCLA-04-2022-2505; FRL-10103-01-R4]

L & R Oil Recovery Superfund Site; Shelby, North Carolina; Notice of Proposed Settlement

AGENCY: Environmental Protection Agency (EPA).

ACTION: Notice of proposed settlement.

SUMMARY: Under the Comprehensive Environmental Response, Compensation and Liability Act (CERCLA), the United States Environmental Protection Agency is proposing to enter into an Administrative Settlement Agreement and Order on Consent with Keystone Powered Metal Company concerning the L & R Oil Recovery Superfund Site located in Shelby, North Carolina. The settlement addresses recovery of CERCLA costs for a cleanup action performed by the EPA at the Site.

DATES: The Agency will consider public comments on the proposed settlement until September 23, 2022. The Agency will consider all comments received and may modify or withdraw its consent to the proposed settlement, if comments received disclose facts or considerations which indicate that the proposed settlement is inappropriate, improper or inadequate.

ADDRESSES: Copies of the settlement are available from the Agency by contacting Ms. Paula V. Painter, Program Analyst, using the contact information provided in this notice. Comments may also be submitted by referencing the Site's name through one of the following methods:

Internet: https://www.epa.gov/aboutepa/about-epa-region-4-southeast#r4-public-notices.

Email: Painter.Paula@epa.gov.

FOR FURTHER INFORMATION CONTACT: Paula V. Painter at (404) 562-8887.

Maurice Horsey,
Chief, Enforcement Branch, Superfund & Emergency Management Division.

[FR Doc. 2022-18211 Filed 8-23-22; 8:45 am]

BILLING CODE 6560-50-P